DEPARTMENT OF AGRICULTURE

Submission for OMB Review; Comment Request

December 3, 2020.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by January 7, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: 7 CFR part 1738 Rural Broadband Loans, Loan/Grant Combinations, and Loan Guarantees.

OMB Control Number: 0572-0154.

Summary of Collection: The Rural Utilities Service (RUS), is authorized by Title VI, Rural Broadband Access, of the Rural Electrification Act of 1936, as amended (RE Act), to provide loans, loan/grant combinations and loan guarantees to fund the cost of construction, improvement, or acquisition of facilities and equipment for the provision of broadband service in eligible rural areas in the States and Territories of the United States. 7 CFR part 1738 prescribes the types of loans available, facilities financed, and eligible applicants, as well as minimum equity requirements to be considered for a loan. In addition, 7 CFR part 1738 outlines the process through which RUS will consider applicants under the priority consideration required in Title VI.

The term of the loan or loan/grant combination is based on the expected composite economic life based on the depreciation rates of the facilities financed. The term of the loan or loan/grant combination can be as high as 35 years. These loans are secured by a first lien on the borrower's broadband system. In the interest of protecting loan security and accomplishing the statutory objective of a sound program of rural broadband service access, Title VI of the RE Act further requires that RUS make or guarantee a loan only if there is reasonable assurance that the loan, together with all outstanding loans and obligations of the borrower, will be repaid in full within the time agreed; the information gathered in this collection will help RUS determine that reasonable assurance.

This package will replace 0572-0130 and incorporates all the new requirements from the 2018 Farm Bill. This package also covers the Public Notice requirements for the telecommunication infrastructure and the Community Connect program. All other burden associated with those two programs will remain under their current packages.

Need and Use of the Information: The information in the program application guide—RUS Bulletin 1738-1 provides applicants with needed information, definitions and details for completing and submitting an application. The information in the application will be used to determine: Applicant eligibility, availability of broadband service for priority consideration, technical and economic feasibility of the proposed project (that the funds requested are adequate to complete the project taking into consideration any additional funding provided by the applicant and that the loan can be repaid within the allowable time frame), loan/grant combination eligibility, and applicant compliance with certain Federal regulations and requirements.

Description of Respondents: Business or other for-profit; Not-for-profit institutions.

Number of Respondents: 50.

Frequency of Responses: Reporting: On occasion.

Total Burden Hours: 20,942.

Levi S. Harrell,
Departmental Information Collection Clearance Officer.

[FR Doc. 2020-26923 Filed 12-7-20; 8:45 am]

BILLING CODE 3410-15-P